FEDERAL COMMUNICATIONS COMMISSION

47 CFR Part 73

[DA 02-2694; MM Docket No. 99-322; RM-9762]

Radio Broadcasting Services; Ashville and Chillicothe, OH.

AGENCY: Federal Communications Commission.

ACTION: Final rule.

SUMMARY: In response to a petition for rule making in this filed by Secret Communications II, L.L.C. this document reallots Channel 227B from Chillicothe, Ohio, to Ashville, Ohio, and modifies the license of Station WFCB to specify Ashville as its community of license. See 64 FR 60150, November 1, 1999. The reference coordinates for the Channel 227B allotment at Ashville, Ohio, are 39-35-30 and 83-06-38. With this action, the proceeding is terminated.

DATES: Effective December 5, 2002.

FOR FURTHER INFORMATION CONTACT: Robert Hayne, Media Bureau

(202) 418-2177.

SUPPLEMENTARY INFORMATION: This is a synopsis of the Report and Order in MM Docket No. 99-322 adopted October 16, 2002, and released October 18, 2002. The full text of this decision is available for inspection and copying during normal business hours in the FCC Reference Information Center at Portals II, CY-A257, 445 12th Street, SW., Washington, DC. The complete text of this decision may also be purchased from the Commission's copy contractor, Qualex International, Portals II, 445 12th Street, SW., Room CY-402, Washington, DC 20554, telephone (202) 863-2893, facsimile (202) 863-2898, or via e-mail qualixint@aol.com.

List of Subjects in 47 CFR Part 73

Radio, Radio broadcasting.

Part 73 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Ohio, is amended by adding Ashville, Channel 227B and by removing Channel 227B at Chillicothe.

Federal Communications Commission.
John A. Karousos,
Assistant Chief, Audio Division, Media Bureau.

[FR Doc. 02-28162 Filed 11-5-02; 8:45 am]

BILLING CODE 6712-01-P